NATIONAL AERONAUTICS AND SPACE ADMINISTRATION

[Notice (11-103)]

Notice of intent to grant exclusive license

AGENCY: National Aeronautics and Space Administration.

ACTION: Notice of intent to grant exclusive license.

SUMMARY: This notice is issued in accordance with 35 U.S.C. 209(e) and 37 CFR 404.7(a)(1)(i). NASA hereby gives notice of its intent to grant an exclusive license in the United States to practice the inventions described and claimed in U.S. Patent No. 7,341,883 B2 entitled “Silicon Germanium Semiconductive Alloy and Method of Fabricating Same,” U.S. Patent No. 7,514,726 B2 entitled “Graded Index Silicon Germanium on Lattice Matched Silicon Germanium Semiconductive Alloy,” U.S. Patent No. 7,558,371 B2 entitled “Method of Generating X-Ray Diffraction Data for Integral Detection of Twin Defects in Super-Hetero-Epitaxial Materials,” U.S. Patent No. 7,906,358 B2 entitled “Epitaxial Growth of Cubic Crystalline Semiconductor Alloys on Basal Plane of Trigonal or Hexagonal Crystal,” U.S. Patent Application No. 12/254,134 entitled “Hybrid Bandgap Engineering for Super-Hetero-Epitaxial Semiconductor Materials, and Products Thereof,” U.S. Patent Application No. 12/288,379 entitled “Rhombohedral Cubic Semiconductor Materials on Trigonal Substrate with Single Crystal Properties and Devices Based on Such Materials,” U.S. Patent No. 7,769,135 B2 entitled “X-ray Diffraction Wafer Mapping Method for Rhombohedral Super-Hetero-Epitaxy; and U.S. Patent Application No. 12/254,016 entitled “Thermoelectric Materials and Devices,” to innoEpi Incorporated having its principal place of business in Santa Clara, California. The patent rights in these inventions have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Attorney, Office of Chief Counsel, NASA Langley Research Center, MS 30, Hampton, VA 23681; (757) 864-5057 (phone), (757) 864-9190 (fax).

FOR FURTHER INFORMATION CONTACT: Thomas K. McBride Jr., Patent Attorney, Office of Chief Counsel, NASA Langley Research Center, MS 30, Hampton, VA 23681; (757) 864-5057; Fax: (757) 864-9190. Information about other NASA inventions available for licensing can be found online at http://technology.nasa.gov.

Dated: October 18, 2011.
Richard W. Sherman,
Deputy General Counsel.

[FR Doc. 2011-27464 Filed 10-21-11; 8:45 am]

BILLING CODE 7510-13-P